DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Reserve Forces Policy Board (“the Board”).

FOR FURTHER INFORMATION CONTACT: Jim Freeman, Advisory Committee Management Officer for the Department of Defense, 703-692-5952.

SUPPLEMENTARY INFORMATION: The Board's charter is being renewed pursuant to 10 U.S.C. 175 and 10301 and in accordance with the Federal Advisory Committee Act (FACA) of 1972 (5 U.S.C., App) and 41 CFR 102-3.50(a). The Board's charter and contact information for the Board's Designated Federal Officer (DFO) can be found at https://www.facadatabase.gov/FACA/apex/FACAPublicAgencyNavigation.

The Board, pursuant to 10 U.S.C. 113(c)(2), provides to the Secretary of Defense, for transmittal to the President and the Congress, an annual report on any reserve component matter that the Board considers appropriate to include and serves as an independent adviser to the Secretary of Defense to provide advice and recommendation on strategies, policies, and practices designed to improve and enhance the capabilities, efficiency, and effectiveness of the reserve component. The Board may act on those matters referred to it by the Chair and on any matters raised by a member of the Board or the Secretary of Defense.

The Board, under the provisions of 10 U.S.C. 10301(c), shall be composed of 20 members, appointed or designated as follows: a. A civilian appointed by the Secretary of Defense from among persons determined by the Secretary to have the knowledge of, and experience in, policy matters relevant to national security and reserve component matters necessary to carry out the duties of Chair of the Board, who shall serve as Chair of the Board. b. Two active or retired reserve officers or enlisted members designated by the Secretary of Defense upon recommendation of the Secretary of the Army. (1) One of whom shall be a member of the Army National Guard of the United States or a former member of the Army National Guard of the United States in the Retired Reserve; and (2) one of whom shall be a member or retired member of the Army Reserve. c. Two active or retired reserve officers or enlisted members designated by the Secretary of Defense upon the recommendation of the Secretary of the Navy. (1) One of whom shall be an active or retired officer of the Navy Reserve, and (2) one of whom shall be an active or retired officer of the Marine Corps Reserve. d. Two active or retired reserve officers or enlisted members designated by the Secretary of Defense upon the recommendation of the Secretary of the Air Force. (1) One of whom shall be a member of the Air National Guard of the United States or a former member of the Air National Guard of the United States in the Retired Reserve; and (2) one of whom shall be a member or retired member of the Air Force Reserve. e. One active or retired reserve officer or enlisted member of the U.S. Coast Guard designated by the Secretary of Homeland Security. f. Ten persons appointed or designated by the Secretary of Defense, each of whom shall be a United States citizen having significant knowledge of and experience in policy matters relevant to national security and reserve component matters and shall be one of the following: (1) An individual not employed in any Federal or State department or agency. (2) An individual employed by a Federal or State department or agency. (3) An officer of a regular component of the armed forces on active duty, or an officer of a reserve component of the armed forces in an active status, who: (a) Is serving or has served in a senior position on the Joint Staff, the headquarters staff of a combatant command, or the headquarters staff of an armed force; and (b) has experience in joint professional military education, joint qualification, and joint operations matters. g. A reserve officer of the Army, Navy, Air Force, or Marine Corps, who is a general or flag officer recommended by the Chair and designated by the Secretary of Defense, who shall serve without vote: (1) As military adviser to the Chair; (2) as military executive officer of the Board; and (3) as supervisor of the operations and staff of the Board. h. A senior enlisted member of a reserve component recommended by the Chair and designated by the Secretary of Defense, who shall serve without vote as enlisted military adviser to the Chair.

All Board members are appointed to provide advice on behalf of the Government on the basis of their best judgment without representing any particular points of view and in a manner that is free from conflict of interest. Except for reimbursement of official Board-related travel and per diem, Board members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: April 15, 2019.
Aaron T. Siegel,
Alternate OSD Federal Register Liaison Officer, Department of Defense.

[FR Doc. 2019-07854 Filed 4-18-19; 8:45 am]

BILLING CODE 5001-06-P